DEPARTMENT OF COMMERCE

International Trade Administration

[A-337-803]

Fresh Atlantic Salmon From Chile: Amended Final Results of Antidumping Duty Changed Circumstances Review in Accordance With Court Decision

AGENCY: Import Administration, International Trade Administration, Department of Commerce.

SUMMARY: On January 17, 2003, the Department of Commerce (the Department) issued its final results of redetermination pursuant to the remand order of the U.S. Court of International Trade (the Court) in Marine Harvest (Chile) S.A. v. United States, Slip Op. 02-134 (October 31, 2002). Pursuant to the remand order, the Department refunded any cash deposits paid by Marine Harvest (Chile) S.A. (Marine Harvest) between the preliminary results of the changed circumstances review and the implementation of the instructions to the U.S. Bureau of Customs and Border Protection (Customs) issued after the final results of the changed circumstances review. In addition, the Department determined that the post-merger Marine Harvest was the successor-in-interest to both the pre-merger Marine Harvest and the former Pesquera Mares Australes, Ltda. (Mares Australes).

EFFECTIVE DATE: May 22, 2003.

FOR FURTHER INFORMATION CONTACT: Constance Handley or Carol Henninger, at (202) 482-0631 or (202) 482-3003, respectively; AD/CVD Enforcement, Office 5, Group II, Import Administration, International Trade Administration, U.S. Department of Commerce, 14th Street & Constitution Avenue, NW., Washington, DC 20230.

SUPPLEMENTARY INFORMATION:

Background

On August 28, 2000, the Department published in the Federal Register the preliminary results of the changed circumstances antidumping duty review with respect to the antidumping duty order on fresh Atlantic salmon from Chile. See Notice of Initiation and Preliminary Results of Changed Circumstances Antidumping Duty Review: Fresh Atlantic Salmon from Chile, 65 FR 52065 (Aug. 28, 2000) (Changed Circumstances Preliminary). In those preliminary results, the Department conducted a successor-in-interest analysis and concluded that the post-merger Marine Harvest was a new entity. The Department assigned the post-merger Marine Harvest a cash deposit rate of 2.23 percent, the cash deposit rate of Mares Australes.

On August 13, 2001, the Department published the final results of the changed circumstances review. See Notice of Final Results of Changed Circumstances Antidumping Duty Review: Fresh Atlantic Salmon from Chile, 66 FR 42506 (August 13, 2001) (Changed Circumstances Final). In those final results, the Department continued to find that the post-merger Marine Harvest was a new entity. The Department assigned Marine Harvest a zero cash deposit rate, which was the rate calculated for the combined entity of the pre-merger Marine Harvest and the former Mares Australes in the second administrative review. See Notice of Final Results of Antidumping Duty Administrative Review and Partial Rescission of Antidumping Duty Administrative Review: Fresh Atlantic Salmon from Chile, 66 FR 42505 (August 13, 2001) (Salmon II).

On October 12, 2001, Marine Harvest filed a complaint with the Court challenging certain aspects of the Department's preliminary and final results of the changed circumstances review. In addition, on March 19, 2002, Marine Harvest filed a Motion for Judgment Upon the Agency Record.

On October 31, 2002, the Court issued its remand order, in which it held that the imposition of a cash deposit simultaneously with publication of the initiation and preliminary results in a changed circumstances review, without prior notice, was not in accordance with law, and ordered the Department to refund the cash deposits in a timely manner. In addition, the Court held that the Department's determination that Marine Harvest is a new entity was neither supported by substantial evidence nor in accordance with law, and ordered that, on remand, the Department reassess its successor-in-interest analysis. See Marine Harvest (Chile) S.A. v. United States, Slip Op. 02-134 (October 31, 2002).

Pursuant to the Court's remand order, the Department issued the final results of redetermination on January 17, 2003. In those results, the Department determined that the post-merger Marine Harvest is the successor-in-interest to both the pre-merger Marine Harvest and to the former Mares Australes and stated that it would refund any deposits paid by Marine Harvest between the Changed Circumstances Preliminary and the implementation of the Customs instructions issued after the Changed Circumstances Final.

On March 4, 2003, the Court ordered that the Department's January 17, 2003, remand results be sustained in their entirety, and thus dismissed the case. See Marine Harvest (Chile) S.A. v. United States, Slip Op. 03-22 (March 4, 2003). The Court's ruling constitutes a “final and conclusive” decision in this case which is “not in harmony” with the Department's original determination. Accordingly, we have prepared these amended final results.

Amended Final Results of Changed Circumstances Review

As a result of the Department's redeterminations on court remand, we have determined that Marine Harvest is the successor-in-interest to the pre-merger Marine Harvest and the former Mares Australes and have refunded any cash deposits paid by Marine Harvest between the Changed Circumstances Preliminary and the implementation of Customs instructions issued after the Changed Circumstances Final. These deposits were paid on entries covered by the third period of review, for which the Department recently published its final results. See Notice of Final Results of Antidumping Duty Administrative Review, Final Determination to Revoke the Order in Part, and Partial Rescission of Antidumping Duty Administrative Review: Fresh Atlantic Salmon from Chile, 68 FR 6878 (February 11, 2003).

We are issuing and publishing these results and notice in accordance with sections 751(a)(1) and 777(i) of the Tariff Act of 1930, as amended.

Dated: May 15, 2003.
Jeffrey May,
Acting Assistant Secretary for Import Administration.

[FR Doc. 03-12875 Filed 5-21-03; 8:45 am]

BILLING CODE 3510-DS-P